DEPARTMENT OF COMMERCE

International Trade Administration

[A-580-811]

Notice of Final Results of Antidumping Duty Administrative Review: Steel Wire Rope From the Republic of Korea

AGENCY: Import Administration, International Trade Administration, Department of Commerce.

EFFECTIVE DATE: August 14, 2000.

FOR FURTHER INFORMATION CONTACT: Jim Kemp or Edward Easton, at (202) 482-1276 or (202) 482-3003, respectively; Import Administration, International Trade Administration, U.S. Department of Commerce, Washington, D.C. 20230.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (the Department) regulations are to 19 CFR part 351 (1999).

Final Results

We determine that, for certain producers/exporters, sales of steel wire rope from the Republic of Korea (Korea) have been made below normal value (NV). The margins exist for the period March 1, 1998, through February 28, 1999, and are shown in the “Final Results of Review” section of this notice.

Case History

On April 7, 2000, the Department published in the Federal Register the preliminary results of the 1998-99 administrative review of the antidumping duty order on steel wire rope from Korea. See Notice of Preliminary Results of Antidumping Duty Administrative Review, Partial Rescission of Antidumping Duty Administrative Review and Intent to Revoke Antidumping Duty Order in Part: Steel Wire Rope from the Republic of Korea, 65 FR 18296 (April 7, 2000). At that time, we rescinded our review with respect to Boo Kook Corporation, Hanboo Wire Rope Inc., Kwangshin Rope, Seo Hae Industrial and Dae Heung Industrial Company. We gave interested parties an opportunity to comment on our preliminary results. The petitioners, the Committee of Domestic Steel Wire Rope and Specialty Cable Manufacturers, filed a case brief on May 8, 2000, and one respondent, Jinyang Wire Rope (Jinyang), filed a rebuttal brief on May 15, 2000. There was no request for a public hearing. The period of review (POR) is March 1, 1998, through February 28, 1999. We have conducted this administrative review in accordance with section 751 of the Act.

Scope of Review

The product covered by this review is steel wire rope. Steel wire rope encompasses ropes, cables, and cordage of iron or carbon steel, other than stranded wire, not fitted with fittings or made up into articles, and not made up of brass-plated wire. Imports of these products are currently classifiable under the following Harmonized Tariff Schedule (HTSUS) subheadings: 7312.10.9030, 7312.10.9060, and 7312.10.9090. Excluded from this review is stainless steel wire rope, i.e., ropes, cables and cordage other than stranded wire, of stainless steel, not fitted with fittings or made up into articles, which is classifiable under HTSUS subheading 7312.10.6000. Although HTSUS subheadings are provided for convenience and the Customs Service purposes, the written description of the scope of this review is dispositive.

Revocation

On March 31, 1999, Kumho Wire Rope Manufacturing Co., Ltd. (Kumho) submitted a letter to the Department requesting revocation of the order with respect to its sales of the subject merchandise. At the preliminary results of this review, the Department preliminarily determined to revoke the order with respect to Kumho as provided under section 351.222(b)(3) of the regulations. However, the Department now finds that the issue of revocation has been rendered moot for the following reasons. First, the U.S. International Trade Commission (ITC) determined in a sunset review pursuant to 751(c) of the Act that revocation of the order on steel wire rope from Korea would not be likely to lead to continuation or recurrence of material injury to an industry in the United States within a reasonably foreseeable time. See Certain Steel Wire Rope from Japan, Korea and Mexico, 65 FR 136 (January 3, 2000). Based on the ITC's sunset determination, revocation of the order on steel wire rope from Korea became effective January 1, 2000. See 65 FR 3205 (January 20, 2000). Thus, a revocation decision on this proceeding with respect to Kumho would not affect any entries after that date. Second, although Kumho may have had exports during the interim period between the end of this review period and the effective date of revocation, (a) entries of such exports would have been made at a zero cash deposit rate, (b) the opportunity to request a review of those entries has passed without a review request, and (c) those entries are subject to automatic assessment under 19 CFR 351.212 (c) as a result of (b). Consequently, there are no entries which would be affected by a revocation decision in this review and, therefore, it is not necessary for the Department to revoke the order with respect to Kumho.

Analysis of Comments Received

All issues raised in the case and rebuttal briefs by parties to this antidumping proceeding are addressed in the Issues and Decision Memorandum for the Sixth Administrative Review of Steel Wire Rope from Korea from Holly Kuga, Acting Deputy Assistant Secretary, Import Administration, to Troy H. Cribb, Acting Assistant Secretary for Import Administration, dated, August 7, 2000, (Decision Memorandum) which is hereby adopted by this notice. A list of the issues which parties have raised and to which we have responded, all of which are in the Decision Memorandum, is attached to this notice as an Appendix. Parties can find a complete discussion of all issues raised in this review and the corresponding recommendations in this public memorandum, which is on file with the Department's Central Records Unit, room B-099 of the main Department building. In addition, a complete version of the Decision Memorandum can be accessed directly on the World Wide Web at http://ia.ita.doc.gov. The paper copy and electronic version of the Decision Memorandum are identical in content.

Changes Since the Preliminary Determination

We have excluded two observations in the U.S. sales database from our margin calculation for Jinyang because the transactions have dates of sale prior to the POR. See Decision Memorandum at Comment 2. We have made no changes to Kumho's margin calculation since the preliminary determination.

Final Results of Review

As a result of this review, we determine that the following margins exist for the period March 1, 1998, through February 28, 1999:

Manufacturer/exporter | Margin (percent)
Dae Kyung Metal Co., Ltd | * 136.72
Dong-Il Steel Manufacturing Co., Ltd | * 136.72
Dong Young | * 136.72
Jinyang Wire Rope, Inc | 3.25
Korea Sangsa Company | * 136.72
Kumho Wire Rope Mfg. Co., Ltd | 0.06
Myung Jin Company | * 136.72
Sungsan Special Steel Processing | * 136.72
Yeonsin Metal | * 136.72
* Adverse facts available rate.

The Department shall determine, and the Customs Service shall assess, antidumping duties on all appropriate entries. In accordance with 19 CFR 351.212(b)(1), we have calculated importer-specific assessment rates by dividing the dumping margin found on the subject merchandise examined by the entered value of such merchandise. We will direct the Customs Service to assess antidumping duties by applying the assessment rate to the entered value of the merchandise entered during the POR, except where the assessment rate is de minimis (see 19 CFR 351.106(c)(2)). The Department will issue appraisement instructions on each exporter directly to the Customs Service.

As explained in the section on “Revocation,” the Department has revoked the antidumping duty order for this case, effective January 1, 2000. Therefore, we have instructed the Customs Service to terminate suspension of liquidation for all entries of subject merchandise made after January 1, 2000. We will issue additional instructions directing the Customs Service to liquidate all entries of steel wire rope made after January 1, 2000, without regard to antidumping duties.

This notice serves as a final reminder to importers of their responsibility to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APOs) of their responsibility concerning the disposition of proprietary information disclosed under APO in accordance with 19 CFR 353.34(d)(1). Timely written notification of the return/destruction of APO materials or conversion to judicial protective order is hereby requested. Failure to comply with the regulations and the terms of an APO is a sanctionable violation.

This determination is issued and published in accordance with sections 735(d) and 777(i)(1) of the Act.

Dated: August 7, 2000.
Troy H. Cribb,
Acting Assistant Secretary for Import Administration.

Appendix: Issues Covered in the Decision Memorandum

1. Inclusion of Jinyang as a Respondent

2. Sales Made Prior to the Period of Review

3. Total Facts Available for Jinyang's Packing Expense

[FR Doc. 00-20556 Filed 8-11-00; 8:45 am]

BILLING CODE 3510-DS-P